DEPARTMENT OF COMMERCE

International Trade Administration

[A-570-104]

Alloy and Certain Carbon Steel Threaded Rod From the People's Republic of China: Antidumping Duty Order

AGENCY: Enforcement and Compliance, International Trade Administration, Department of Commerce.

SUMMARY: Based on affirmative final determinations by the Department of Commerce (Commerce) and the International Trade Commission (ITC), we are issuing an antidumping duty order on alloy and certain carbon steel threaded rod (threaded rod) from the People's Republic of China (China).

DATES: Applicable April 9, 2020.

FOR FURTHER INFORMATION CONTACT: Yang Jin Chun at (202) 482-5760, AD/CVD Operations, Office I, Enforcement and Compliance, International Trade Administration, U.S. Department of Commerce, 1401 Constitution Avenue NW, Washington, DC 20230.

SUPPLEMENTARY INFORMATION:

Background

In accordance with sections 735(d) and 777(i)(1) of the Tariff Act of 1930, as amended (the Act), and 19 CFR 351.210(c), on February 18, 2020, Commerce published its affirmative final determination in the less-than-fair-value (LTFV) investigation of imports of threaded rod from China.¹ On April 3, 2020, the ITC notified Commerce of its final determination pursuant to section 735(b)(1)(A)(i) of the Act, that an industry in the United States is materially injured by reason of the LTFV imports of threaded rod from China.²

¹ See Alloy and Certain Carbon Steel Threaded Rod from the People's Republic of China: Final Affirmative Determination of Sales at Less Than Fair Value, 85 FR 8821 (February 18, 2020) (Final Determination).

² See Notification Letter from the ITC dated April 3, 2020 (ITC Letter).

Scope of the Order

The product covered by this order is threaded rod. For a complete description for the scope of the order, see the appendix to this notice.

Antidumping Duty Order

On April 3, 2020, in accordance with sections 735(d) of the Act, the ITC notified Commerce of its final determination in this investigation, in which it found that an industry in the United States is materially injured within the meaning of section 735(b)(1)(A)(i) of the Act by reason of LTFV imports of threaded rod from China.³ Therefore, in accordance with sections 735(c)(2) and 736 of the Act, Commerce is issuing this antidumping duty order.

³ Id.

Because the ITC determined that imports of threaded rod from China are materially injuring a U.S. industry, unliquidated entries of such merchandise from China, entered or withdrawn from warehouse for consumption, are subject to the assessment of antidumping duties. Therefore, in accordance with section 736(a)(1) of the Act, Commerce will direct U.S. Customs and Border Protection (CBP) to assess, upon further instruction by Commerce, antidumping duties equal to the amount by which the normal value of the merchandise exceeds the export price (or constructed export price) of the merchandise, for all relevant entries of threaded rod from China. Antidumping duties will be assessed on unliquidated entries of threaded rod from China entered, or withdrawn from warehouse, for consumption on or after September 25, 2019, the date of publication of the Preliminary Determination,⁴ but will not include entries occurring after the expiration of the provisional measures period and before publication of the ITC's final injury determination as further described below.

⁴ See Alloy and Certain Carbon Steel Threaded Rod from the People's Republic of China: Preliminary Affirmative Determination of Sales at Less Than Fair Value, Postponement of Final Determination and Extension of Provisional Measures, 84 FR 50379 (September 25, 2019) (Preliminary Determination).

Continuation of Suspension of Liquidation

In accordance with section 736 of the Act, Commerce will instruct CBP to continue to suspend liquidation of threaded rod from China as described in the appendix to this notice which are entered, or withdrawn from warehouse, for consumption on or after the date of publication of the ITC's notice of final determination in the Federal Register. These instructions suspending liquidation will remain in effect until further notice.

We will also instruct CBP to require cash deposits equal to the amount as indicated below. Accordingly, effective on the date of publication of the ITC's final affirmative injury determination, CBP will require, at the same time as importers would normally deposit estimated duties on this subject merchandise, a cash deposit equal to the cash deposit rates listed below.⁵ The rate for the China-wide entity applies to all exporters not specifically listed. For the purpose of determining cash deposit rates, the estimated weighted-average dumping margins for imports of subject merchandise from China have been adjusted, as appropriate, for export-contingent subsidies calculated based on the final determination of the companion countervailing duty investigation of threaded rod from China.⁶

⁵ See section 736(a)(3) of the Act.

⁶ See Final Determination, 85 FR at 8822; see also Carbon and Alloy Steel Threaded Rod from the People's Republic of China: Final Affirmative Countervailing Duty Determination, 85 FR 8833 (February 18, 2020), and accompanying Issues and Decision Memorandum.

Estimated Weighted-Average Dumping Margins

The weighted-average antidumping duty margin percentages and cash deposit percentages are as follows:

Exporter | Producer | Estimated weighted- average dumping margin (percent) | Cash deposit rate (adjusted for subsidy offsets) (percent)
Ningbo Zhongjiang High Strength Bolts Co., Ltd | Ningbo Zhongjiang High Strength Bolts Co., Ltd | 14.16 | 3.62
Zhejiang Junyue Standard Part Co., Ltd | Zhejiang Junyue Standard Part Co., Ltd | 4.26 | 0.00
Cooper & Turner (Ningbo) International Trading Co., Ltd | Zhejiang Cooper & Turner Fasteners Co., Ltd | 11.47 | 0.00
Cooper & Turner (Ningbo) International Trading Co., Ltd | Zhejiang Morgan Brother Technology Co., Ltd | 11.47 | 0.00
Cooper & Turner (Ningbo) International Trading Co., Ltd | Zhejiang Huiyou Import & Export Co., Ltd | 11.47 | 0.00
EC International (Nantong) Co., Ltd | Ningbo Zhongjiang High Strength Bolts Co., Ltd | 11.47 | 0.00
EC International (Nantong) Co., Ltd | Ningbo Zhenghai Yongding Fasteners Manufacture Co., Ltd | 11.47 | 0.00
EC International (Nantong) Co., Ltd | Zhejiang Junyue Standard Part Co., Ltd | 11.47 | 0.00
EC International (Nantong) Co., Ltd | Haiyan Qinshan Rubber Factory | 11.47 | 0.00
IFI & Morgan Ltd | Zhejiang Morgan Brother Technology Co., Ltd | 11.47 | 0.00
Jiaxing Genteel Import & Export Co., Ltd | Ningbo Zhenhai Zhongbiao Standard Parts Factory | 11.47 | 0.00
Ningbo Dingtuo Imp. & Exp. Co., Ltd | Ningbo Jinding Fastening Piece Co., Ltd | 11.47 | 0.00
Zhejiang Heiter Mfg & Trade Co., Ltd | Zhejiang Golden Automotive Fastener Co., Ltd | 11.47 | 0.00
Ningbo Jinding Fastening Piece Co., Ltd | Ningbo Jinding Fastening Piece Co., Ltd | 11.47 | 0.00
Ningbo Qunli Fastener Manufacture Co., Ltd | Ningbo Qunli Fastener Manufacture Co., Ltd | 11.47 | 0.00
Nantong Runyou Metal Products Co., Ltd | Nantong Runyou Metal Products Co., Ltd | 11.47 | 0.00
Ningbo Shareway Import & Export, Co., Ltd | Zhejiang Junyue Standard Parts Co., Ltd | 11.47 | 0.00
Ningbo Xingsheng Oil Pipe Fittings Manufacture Co., Ltd | Ningbo Xingsheng Oil Pipe Fittings Manufacture Co., Ltd | 11.47 | 0.00
Ningbo Zhenghai Yongding Fastener Co., Ltd | Ningbo Zhenghai Yongding Fastener Co., Ltd | 11.47 | 0.00
RMB Fasteners Ltd | Zhejiang Morgan Brother Technology Co., Ltd | 11.47 | 0.00
Zhejiang Morgan Brother Technology Co., Ltd | Zhejiang Morgan Brother Technology Co., Ltd | 11.47 | 0.00
China-Wide Entity |  | 59.45 | 48.91

Provisional Measures

Section 733(d) of the Act states that instructions issued pursuant to an affirmative preliminary determination may not remain in effect for more than four months, except where exporters representing a significant proportion of exports of the subject merchandise request Commerce to extend that four-month period to no more than six months. Because certain exporters accounting for a significant proportion of threaded rod from China requested an extension of the provisional measures, we extended the four-month period to six months in this proceeding.⁷ The period began on September 25, 2019 and ended on March 22, 2020.

⁷ See Preliminary Determination, 84 FR at 50381.

Therefore, in accordance with section 733(d) of the Act and our practice, we will instruct CBP to terminate the suspension of liquidation and to liquidate, without regard to antidumping duties, unliquidated entries of threaded rod from China entered, or withdrawn from warehouse, for consumption after March 22, 2020, the date the provisional measures expired, through the day preceding the date of publication of the ITC's final injury determination in the Federal Register. Suspension of liquidation will resume on the date of publication of the ITC's final determination in the Federal Register.

Notification to Interested Parties

This notice constitutes the antidumping duty order with respect to threaded rod from China pursuant to section 736(a) of the Act. Interested parties can find a list of antidumping duty orders currently in effect at http://enforcement.trade.gov/stats/iastats1.html.

This order is issued and published in accordance with section 736(a) of the Act and 19 CFR 351.211(b).

Dated: April 3, 2020.
Jeffrey I. Kessler,
Assistant Secretary for Enforcement and Compliance.

Appendix—Scope of the Order

The merchandise covered by the scope of this order is alloy and certain carbon steel threaded rod. Alloy and certain carbon steel threaded rod are certain threaded rod, bar, or studs, of carbon or alloy steel, having a solid, circular cross section of any diameter, in any straight length. Alloy and certain carbon steel threaded rod are normally drawn, cold-rolled, threaded, and straightened, or it may be hot-rolled. In addition, the alloy and certain carbon steel threaded rod, bar, or studs subject to this order are non-headed and threaded along greater than 25 percent of their total actual length. A variety of finishes or coatings, such as plain oil finish as a temporary rust protectant, zinc coating (i.e., galvanized, whether by electroplating or hot-dipping), paint, and other similar finishes and coatings, may be applied to the merchandise.

Alloy steel threaded rod is normally produced to American Society for Testing and Materials (ASTM) specifications A193 B7/B7m, A193 B16, A320 L7/L7m, A320 L43, A354 BC and BD, and F1554 Grade 105. Other specifications are Society of Automotive Engineers (SAE) specification 1429 grades 5 and 8, International Organization for Standardization (ISO) specification 898 class 8.8 and 10.9, and American Petroleum Institute (API) specification 20E. Certain carbon steel threaded rod is normally produced to ASTM specification A449. All steel threaded rod meeting the physical description set forth above is covered by the scope of this order, whether or not produced according to a particular standard.

Subject merchandise includes material matching the above description that has been finished, assembled, or packaged in a third country, including by cutting, chamfering, coating, or painting the threaded rod, by attaching the threaded rod to, or packaging it with, another product, or any other finishing, assembly, or packaging operation that would not otherwise remove the merchandise from the scope of the order if performed in the country of manufacture of the threaded rod.

Alloy and certain carbon steel threaded rod are also included in the scope of this order whether or not imported attached to, or in conjunction with, other parts and accessories such as nuts and washers. If carbon and alloy steel threaded rod are imported attached to, or in conjunction with, such non-subject merchandise, only the threaded rod is included in the scope.

Excluded from the scope of this order are: (1) Threaded rod, bar, or studs which are threaded only on one or both ends and the threading covers 25 percent or less of the total actual length; and (2) stainless steel threaded rod, defined as steel threaded rod containing, by weight, 1.2 percent or less of carbon and 10.5 percent or more of chromium, with or without other elements.

Excluded from the scope of the antidumping order on steel threaded rod from the People's Republic of China is any merchandise covered by the existing antidumping order on Certain Steel Threaded Rod from the People's Republic of China. See Certain Steel Threaded Rod from the People's Republic of China: Notice of Antidumping Duty Order, 74 FR 17154 (April 14, 2009).

Specifically excluded from the scope of this order is threaded rod that is imported as part of a package of hardware in conjunction with a ready-to-assemble piece of furniture.

Alloy and certain carbon steel threaded rod are currently classifiable under subheadings 7318.15.5051, 7318.15.5056, and 7318.15.5090 of the Harmonized Tariff Schedule of the United States (HTSUS). Subject merchandise may also enter under subheading 7318.15.2095 and 7318.19.0000 of the HTSUS. The HTSUS subheadings are provided for convenience and U.S. Customs purposes only. The written description of the scope is dispositive.

[FR Doc. 2020-07482 Filed 4-8-20; 8:45 am]

BILLING CODE 3510-DS-P